DEPARTMENT OF LABOR

Employment and Training Administration

[TA-W-37,929]

B.F. Goodrich Aerospace (Coltec Industries, Inc.) Landing Gear Division Euless, TX; Amended Certification Regarding Eligibility To Apply for Worker Adjustment Assistance

In accordance with section 223 of the Trade Act of 1974 (19 U.S.C. 2273) the Department of Labor issued a Certification of Eligibility to Apply for Worker Adjustment Assistance on November 2, 2000, applicable to workers of B.F. Goodrich Aerospace, (COLTEC), Landing Gear Division, Euless, Texas. The notice will be published soon in the Federal Register.

At the request of the State agency, the Department reviewed the certification for workers of the subject firm. New findings show that the Department incorrectly identified the subject firm name in its entirety. The Department is amending the certification determination to correctly identify the subject firm title name to read “B.F. Goodrich Aerospace, (COLTEC Industries, Inc.), Landing Gear Division”.

The amended notice applicable to TA-W-37,929 is hereby issued as follows:

All workers of B.F. Goodrich Aerospace, (COLTEC Industries, Inc.), Landing Gear Division, Euless, Texas who became totally or partially separated from employment on or after July 14, 1999 through November 2, 2002 are eligible to apply for adjustment assistance under Section 223 of the Trade Act of 1974.

Signed at Washington, D.C. this 27th day of November, 2000.
Linda G. Poole,
Certifying Officer, Division of Trade Adjustment Assistance.

[FR Doc. 00-31820 Filed 12-13-00; 8:45 am]

BILLING CODE 4510-30-M